NATIONAL AERONAUTICS AND SPACE ADMINISTRATION

[Notice: (20-097)]

NASA Advisory Council; Science Committee; Meeting

AGENCY: National Aeronautics and Space Administration.

ACTION: Notice of revised dates for meeting.

SUMMARY: In accordance with the Federal Advisory Committee Act, as amended, the National Aeronautics and Space Administration (NASA) announces revised dates for the upcoming meeting of the Science Committee of the NASA Advisory Council (NAC).

DATES: Tuesday, December 1, 2020, 1:00 p.m.-5:00 p.m., and Wednesday, December 2, 2020, 1:00-5:15 p.m., Eastern Time.

FOR FURTHER INFORMATION CONTACT: Ms. KarShelia Henderson, Science Mission Directorate, NASA Headquarters, Washington, DC 20546, (202) 358-2355 or khenderson@nasa.gov.

SUPPLEMENTARY INFORMATION: The original meeting notice was published in the Federal Register on Friday, November 13, 2020 in Vol. 85, No. 220 on page 72703. This meeting will now take place on two days (December 1-2, 2020), rather than on three days (December 1-3, 2020). The Science Committee reports to the NAC. The meeting will be held for the purpose of soliciting, from the scientific community and other persons, scientific and technical information relevant to program planning. This meeting will be open to the public via Webex and telephonically. Webex connectivity information for each day is provided below. For audio, when you join the Webex event, you may use your computer or provide your phone number to receive a call back, otherwise, call the U.S. toll conference number listed for each day. On Tuesday, December 1, the event address for attendees is: https://nasaenterprise.webex.com/nasaenterprise/onstage/g.php?MTID=ec9f04af53099d097214a64cf178fc2ed. The event number is 199 056 0375 and the event password is wfSEe8uH5*3. If needed, the U.S. toll conference number is 1-415-527-5035 and access code is 199 056 0375. On Wednesday, December 2, the event address for attendees is: https://nasaenterprise.webex.com/nasaenterprise/onstage/g.php?MTID=e51f38c7ac92a01577c5f697d7d1b4c5f. The event number is 199 748 1916 and the event password is EswGXYZ@742. If needed, the U.S. toll conference number is 1-415-527-5035 and access code is 199 748 1916.

The agenda for the meeting includes the following topics:

—Science Mission Directorate (SMD) Missions, Programs and Activities

It is imperative that the meeting be held on these dates due to the scheduling priorities of the key participants.

Patricia Rausch,
Advisory Committee Management Officer, National Aeronautics and Space Administration.

[FR Doc. 2020-26244 Filed 11-25-20; 8:45 am]

BILLING CODE 7510-13-P